DEPARTMENT OF COMMERCE

International Trade Administration

International Framework for Nuclear Energy Cooperation (IFNEC) Small Modular Reactor Workshop

AGENCY: International Trade Administration, DOC.

ACTION: Notice.

Event Description

The U.S. Department of Commerce's International Trade Administration (ITA) is coordinating with the U.S. Department of Energy—the lead U.S. agency for the International Framework for Nuclear Energy Cooperation (IFNEC)—to organize the participation of U.S. civil nuclear organizations in an IFNEC Small Modular Reactor (SMR) Workshop, to be held on June 11-12, 2014 near the Dead Sea in Jordan. IFNEC is an international forum consisting of 63 countries ranging from those with emerging and existing nuclear power programs to those in the process of phasing out nuclear power programs. The goal of this SMR Workshop is to gain a better understanding, from a national energy planning authority and Nuclear Energy Program Implementation Organization (NEPIO) perspective, of the near-term SMR commercial deployment process; and how SMRs could be deployed in markets represented by IFNEC members, including countries seeking to use nuclear energy for the first time and those with limited infrastructure and resources, such as countries with small electricity grids and insufficient capital to finance the deployment of medium and large-sized reactors. ITA is seeking the participation of approximately 15 U.S. companies or trade associations in the civil nuclear sector. The Workshop's scenario-based and interactive dialogue will provide an opportunity for member country policymakers and other participants to benefit from the viewpoints of the U.S. civil nuclear industry and for U.S. industry to learn more about the policies, regulatory landscape, and energy plans of participating IFNEC countries.

Event Setting

The Workshop will bring together IFNEC member country representatives and key stakeholders involved in the development and deployment of SMRs. The Workshop will take an enterprise-wide approach by convening a broad spectrum of stakeholders who would play key roles in successfully deploying an SMR (e.g. vendors, utilities, commercial banks, export credit agencies, insurers, nuclear safety and security regulators, market regulators, insurers, rating agencies, transportation, energy planning authorities/NEPIOs) in order to identify SMR deployment options and approaches. An important Workshop goal will be to understand the critical factors for key stakeholder groups—what they can and cannot do—in order to discuss specific deployment options.

IFNEC Background

IFNEC is led by an Executive Committee, composed of ministerial-level officials or their designees from Participant Countries and three International Organizations (the International Atomic Energy Agency (IAEA), Generation IV International Forum (GIF) and Euratom) that meet annually to set the agenda for the coming year. Observer Countries and International Organizations are welcome and encouraged to attend. This workshop was proposed and approved at the October 2013 meeting of the IFNEC Executive Committee in Abu Dhabi, UAE.

Event Scenario

The IFNEC SMR Workshop will provide a dynamic forum in which experts representing a broad spectrum of key stakeholders will engage in moderated hypothetical scenario-based exercises to address the benefits and challenges related to the deployment of SMRs. This Workshop's focus will be on reactors with a nominal output of 300 MWe (or less) based on a modular fabrication processes and ready for commercialization within the next 15 years. Following the scenario exercises, key experts will lead focused participatory dialogues among groups of Workshop attendees to further address specific issues and responses to the scenario-based exercises.

The interactions in the breakout groups will help Workshop attendees gain a better understanding of how the stakeholders affect the process of SMR deployment. The primary goal of the workshop is to identify practical actions that IFNEC countries, individually or collectively, can take to address SMR deployment challenges.

Event Dates and Proposed Agenda

Wednesday, June 11

8:00-9:00 Registration and Networking

9:00-9:30 Welcome and Opening Remarks

9:30-10:00 Group Photo and Break

10:00-10:15 Workshop Objectives and Scene-Setter

10:15-11:00 Global Nuclear Reactor Market State of Play

11:00-12:00 National Market Perspectives Regarding SMRs

12:00-1:30 Lunch

1:30-3:30 Moderated Interactive Scenario Session #1: Build a Plan for Deployment of an SMR Based on Limited Capital, Credit and Infrastructure

3:30-4:00 Break

4:00-5:00 Breakout sessions to identify critical deployment issues and how the scenario country can or should address them

5:00-5:30 Breakout Reports led by Moderator

5:30-5:45 Wrap-up of Day 1/Preview of Day 2 by Steering Group Chair and Moderator

6:15-8:45 Dinner/Networking Opportunity

Thursday, June 12

8:30-10:00 Small Modular Reactor Descriptions—Facilitated by Workshop Moderator

10:00-10:30 Break

10:30-12:00 Moderated Interactive Scenario Session #2: Build a Plan for Deployment of an SMR Based on Substantial Capital, Credit, and Infrastructure

12:00-1:30 Lunch

1:30-3:00 Breakout sessions to identify the critical deployment issues in Scenario #2 and how the scenario country can or should address them

3:00-3:30 Break

3:30-4:30 Plenary Session and Summary of Findings/Recommendations and Conclusions

4:30-5:00 Wrap-Up by Steering Group Chair and Moderator

7:30-9:00 Gala Diner

** The lunch and Gala Dinner will be provided by the host country**

Event Goals

The purpose of U.S. civil nuclear industry participation in the IFNEC SMR Workshop is to provide an opportunity for participants to hear U.S. industry views in this sector and for industry representatives to showcase their knowledge and experience with SMR deployment to the IFNEC Member Countries. U.S. participants will also have the opportunity to network, build relationships in the global civil nuclear sector; interact with senior U.S. and foreign government and industry officials and learn more about current and future project opportunities. Workshop participants will benefit from the expertise that the U.S. industry has amassed in this sector and may learn how to better partner with U.S. industry on future nuclear power projects, thus potentially leading to increased U.S. exports.

Participation Requirements

Organizations interested in participating in the IFNEC SMR Workshop must complete and submit an application package for consideration by the ITA. Applicants will be evaluated based on their ability to meet certain the selection criteria outlined below. A minimum of 15 organizations will be selected from the applicant pool of U.S. companies and trade associations. Only companies or trade associations representing companies that are already doing business internationally may apply. Applications will be reviewed on a rolling basis in the order that they are received.

Fees and Expenses

After a company or trade association has been selected to participate in the IFNEC Workshop, the IFNEC Steering Group Chair will send out a formal invitation. There is NO participation fee associated with participating in the IFNEC Workshop; however, participants will be responsible for personal expenses associated with lodging, most meals, incidentals, local ground transportation, air transportation from the United States to the event location, and return to the United States. The host country will provide coffee both days and host the gala dinner on the second night of the event.

Sponsorship Opportunities

There are a limited number of sponsorship opportunities available for interested companies to showcase their company profile during the Workshop. For more information about these opportunities, please contact Jonathan Chesebro at jonathan.chesebro@trade.gov or 202-482.1297.

Conditions for Participation

Applicants must submit to ITA's staff (see Contact) a completed mission application signed by a company official, together with supplemental application materials addressing how their organization satisfies the selection criteria listed below by April 4, 2014. If the ITA receives an incomplete application, it may be rejected or ITA may request additional information.

In question 11 of the trade event application, each applicant is asked to certify that the products and services it intends to export through the event are either manufactured or produced in the United States, or, if not, are marketed under the name of a U.S. firm and have U.S. content representing at least fifty-one percent of the value of the finished good or service. For purposes of this event, meeting the 51 percent content requirement is not a prerequisite for mission participation and applicant responses to question 11 will serve as supplemental information the ITA is reviewing applications. In the case of a trade association, the applicant must certify that as part of its even participation, it will represent the interests of its members.

Selection Criteria for Participation

Selection will be based on the following criteria:

• The applicant's experience producing technology or providing services to civil nuclear energy projects or, in the case of a trade association, the experience of its members;

• The global breadth of the applicant's experience with civil nuclear energy projects;

• The extent and depth of the applicant's activities in the global civil nuclear energy industry;

• The applicant's company or, in the case of a trade association, the association's members' potential for, or interest in, doing business with IFNEC member countries;

• The applicant's ability to identify and discuss policy issues relevant to U.S. competitiveness in the nuclear energy sector, with special emphasis on financing; and

• Consistency of the applicant's company or trade association's goals and objectives with the stated scope of the IFNEC Workshop.

Referrals from political organizations and any documents containing references to partisan political activities (including political contributions) will be removed from an applicant's submission and not considered during the selection process.

Selected applicants will be asked to sign a Participation Agreement with the Department of Commerce which includes the following mandatory certifications (applicants that cannot attest to these certifications cannot participate):

• Certify that the products and services that it intends to highlight as examples at the workshop would be in compliance with U.S. export controls and regulations;

• Certify that it has identified to the Department of Commerce for its evaluation any business pending before the Department that may present the appearance of a conflict of interest;

• Certify that it has identified any pending litigation (including any administrative proceedings) to which it is a party that involves the Department of Commerce; and

• Certify that it and its affiliates (1) have not and will not engage in the bribery of foreign officials in connection with a company's/participant's involvement in this mission, and (2) maintain and enforce a policy that prohibits the bribery of foreign officials.

Timeframe for Recruitment and Participation

Recruitment for participation in the IFNEC Workshop as a representative of the U.S. nuclear industry will be conducted in an open and public manner, including publication in the Federal Register, posting on the Commerce Department trade mission calendar, notices to industry trade associations and other multiplier groups. Recruitment will begin immediately and conclude no later than April 4, 2014. The ITA will review applications and make selection decisions on a rolling basis beginning on or about April 4, 2014. Applications received after April 4, 2014, will be considered only if space and scheduling permit.

Contact

Jonathan Chesebro, Senior International Trade Specialist, Industry and Analysis, Office of Energy and Environmental Industries, International Trade Administration, Phone: (202)-482-1297, Email: jonathan.chesebro@trade.gov.

Dated: March 18, 2014.
Edward A. O'Malley,
Director, Office of Energy and Environmental Industries.

[FR Doc. 2014-06506 Filed 3-24-14; 8:45 am]

BILLING CODE 3510-DR-P